DEPARTMENT OF TRANSPORTATION

National Highway Traffic Safety Administration

[Docket No. NHTSA-2018-0063]

Agency Information Collection Request Under OMB Review; Request for Comments

AGENCY: National Highway Traffic Safety Administration (NHTSA), Department of Transportation (DOT).

ACTION: Notice and request for comments.

SUMMARY: In compliance with the Paperwork Reduction Act of 1995, this notice announces the Information Collection Request (ICR) abstracted below is being forwarded to the Office of Management and Budget (OMB) for review and comment. A Federal Register Notice with a 60-day comment period soliciting comments on the following information collection was published May 16, 2018. The agency did not receive any comments.

DATES: Comments must be submitted on or before June 13, 2019.

ADDRESSES: Send comments regarding the burden estimate, including suggestions for reducing the burden, to the Office of Management and Budget, Attention: Desk Officer for the Office of the Secretary of Transportation, 725 17th Street NW, Washington, DC 20503.

FOR FURTHER INFORMATION CONTACT: Cristina Echemendia, Office of Crashworthiness Standards, NRM-130, 202-366-6345, National Highway Traffic Safety Administration, Room W43-447, Department of Transportation, 1200 New Jersey Avenue SE, Washington, DC 20590. Please identify the relevant collection of information by referring to its OMB Control Number.

SUPPLEMENTARY INFORMATION: Before a Federal agency can collect certain information from the public, it must receive approval from the Office of Management and Budget (OMB). In compliance with those requirements, this notice announces the following information collection request has been forwarded to OMB.

NHTSA published a Federal Register notice requesting public comment on this information collection.¹ No comments were received.

¹ 83 FR22744 (May 16, 2018).

The following describes the collection of information for which NHTSA intends to seek OMB approval. It is titled “Consolidated Child Restraint System Registration, Labeling and Defect Notifications.” (OMB Control Number: 2127-0576). NHTSA's information collection for child restraint systems expired April 30, 2018; therefore, this request is a reinstatement of a previously approved collection of information.

Title: Consolidated Child Restraint System Registration, Labeling and Defect Notifications.

OMB Control Number: 2127-0576.

Type of Request: Reinstatement of a previously approved collection of information.

Abstract: The National Traffic and Motor Vehicle Safety Act, now codified at 49 U.S.C. 30111, authorizes the issuance of Federal Motor Vehicle Safety Standards (FMVSS). Moreover, under 49 U.S.C. 30117, the Secretary is also authorized to require manufacturers to provide information to first purchasers of motor vehicles or motor vehicle equipment when the vehicle equipment is purchased, in the form of printed matter placed in the vehicle or attached to the motor vehicle or motor vehicle equipment. The Secretary is authorized to issue, amend, and revoke such rules and regulations as he/she deems necessary.

Child restraint manufacturers are required to provide an owner's registration card for purchasers of child safety seats in accordance with title 49 of the Code of Federal Regulation (CFR), Part 571.213, “Child restraint systems.” The registration card is perforated into two-parts (see Figures 1 and 2). The top part contains a message and suitable instructions to be retained by the purchaser. The bottom part is to be returned to the manufacturer by the purchaser. The bottom part includes prepaid return postage, the pre-printed name/address of the manufacturer, the pre-printed model and date of manufacture, and spaces for the purchaser to fill in his/her name and address. Optionally, child restraint manufacturers are permitted to add to the registration form: (a) Specified statements informing CRS owners that they may register online; (b) the internet address for registering with the company; (c) revisions to statements reflecting use of the internet to register; and (d) a space for the consumer's email address. For those CRS owners with access to the internet, online registration may be a preferred method of registering a CRS.

In addition to the registration card supplied by the manufacturer, NHTSA has implemented a CRS registration system to assist those individuals who have either lost the registration card that came with the CRS or purchased a previously owned CRS. Upon the owner's request, NHTSA provides a substitute registration form that can be obtained either by mail or from the internet ² (see Figure 3). When the completed registration is returned to the agency, it is then submitted to CRS manufacturers. In the absence of a substitute registration system, many owners of child passenger safety seats, especially any second-hand owners, might not be notified of safety defects and noncompliances and would not have the defects and noncompliances remedied.

² http://www-odi.nhtsa.dot.gov/cars/problems/recalls/register/childseat/csregfrm.pdf.

Child seat owner registration information is retained in the event owners need to be contacted for defect recalls or replacement campaigns. Chapter 301 of title 49 of the United States Code specifies that if either NHTSA or a manufacturer determines that motor vehicles or items of motor vehicle equipment contain a defect that relates to motor vehicle safety or fails to comply with an applicable Federal motor vehicle safety standard, the manufacturer must notify owners and purchasers of the defect or noncompliance and must provide a remedy without charge. In title 49 of the CFR, part 577, defect and noncompliance notification for equipment items, including child restraint systems, must be sent by first class mail to the most recent purchaser known to the manufacturer.

Child restraint manufacturers are also required to provide a printed instructions brochure with step-by-step information on how the restraint is to be used. Without proper use, the effectiveness of these systems is greatly diminished. Each child restraint system must also have a permanent label. A permanently attached label gives “quick look” information on whether the restraint meets the safety requirements, recommended installation and use, and warnings against misuse. CRSs equipped with internal harnesses to restrain the child and with components to attach to a child restraint anchorage system are also required to be labeled with a child weight limit for using the lower anchors to attach the child restraint to the vehicle. The child weight limit depends on the weight of the CRS.

Affected Public: Child restraint manufacturers, individuals, and households.

Estimated Number of Respondents: 29 CRS manufacturers and approximately 2,569,399 Individuals and/or Households.

Frequency: Every certified child restraint system registered and some child restraint systems produced.

Number of Responses: 2,569,399 total annual registration responses ³ and 5,075,000 total annual labeling responses.

³ This is the number of registrations filled out by consumers and the information collection by the CRS manufacturers of those received registrations.

Estimated Total Annual Burden: 99,330 hours.

The total estimated hour burden will increase from the 40,497 hours to 99,330 burden hours (58,833 burden hours increase). The increase in burden is due to the inclusion of the burden hours to consumers for filling out the registration form and due to an increase in CRS sales.

Estimated Total Annual Burden Cost: $2,351,374.

The total burden hours for this collection consist of: (1) The hours spent by consumers filling out the registration form, (2) the hours spent collecting registration information, and (3) the hours spent determining the maximum allowable child weight for lower anchor use and adding the information to the existing label and instruction manual.

NHTSA estimates 14,500,000 CRSs are currently sold each year by 29 CRS manufacturers. Of the CRSs sold each year, NHTSA estimates 2,147,504 are registered using registration cards and 421,895 are registered online. A consumer spends approximately 60 seconds filling out the registration form. The estimated annual number of burden hours for consumers to fill out the registration form is 42,823 hours (= 2,569,399 × (60 seconds/3,600 seconds/hour)). Manufacturers must spend about 90 seconds to enter the information from each returned registration card; while, online registrations are considered to have no burden for the manufacturer, as the information is entered by the purchaser. Therefore, the estimated annual number of burden hours for CRS registration information collection is 53,688 hours (= 2,147,504 × (90 seconds/3,600 seconds/hour)).

About 10,150,000 of the CRSs sold each year are equipped with internal harnesses. About half of the CRSs equipped with internal harnesses sold annually (5,075,000 = 10,150,000 × 0.5) would require a label with the maximum allowable child weight for using the lower anchors. Manufacturers must spend about two seconds to determine the maximum allowable child weight for lower anchor use and to add the information to the existing label and instruction manual. Therefore, the total annual burden hours for the information on the maximum allowable child weight in the existing label and instruction manual is 2,819 hours (= 5,075,000 × (2 seconds/3,600 seconds/hour)).

The estimated total annual number of burden hours is 99,330 (= 42,823 + 53,688 + 2,819) hours. The total estimated hour burden increased from 40,497 hours in the 2015 information collection notice to 99,330 burden hours (a 58,833 burden hour increase). The increase in burden is due to the inclusion of the burden hours to consumers for filling the registration form and due to an increase in CRS sales. In 2015, NHTSA estimated approximately 10,600,000 CRSs are sold each year while NHTSA's estimate in 2018 increased to 14,500,000 CRSs.

Public Comments Invited: You are asked to comment on any aspects of this information collection, including: (a) Whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995, 44 U.S.C. Chapter 35.

Issued in Washington, DC, under authority delegated in 49 CFR 1.95 and 501.8.
Raymond R. Posten,
Associate Administrator for Rulemaking.

BILLING CODE 4910-59-P

[FR Doc. 2019-09849 Filed 5-13-19; 8:45 am]

BILLING CODE 4910-59-C